OFFICE OF PERSONNEL MANAGEMENT

5 CFR Part 532

RIN 3206-AL77

Prevailing Rate Systems; Redefinition of Certain Appropriated Fund Federal Wage System Wage Areas

AGENCY: U.S. Office of Personnel Management.

ACTION: Final rule.

SUMMARY: The U.S. Office of Personnel Management (OPM) is issuing a final rule to redefine the geographic boundaries of several appropriated fund Federal Wage System wage areas for pay-setting purposes. Based on recent reviews of Metropolitan Statistical Area boundaries in a number of wage areas, OPM is redefining the following wage areas: Birmingham, AL; Denver, CO; Wilmington, DE; Washington, DC; Atlanta, GA; Columbus, GA; Macon, GA; Chicago, IL; Bloomington-Bedford-Washington, IN; Indianapolis, IN; Louisville, KY; Baltimore, MD; Hagerstown-Martinsburg-Chambersburg, MD; St. Louis, MO; Southern Missouri; Omaha, NE; New York, NY; Philadelphia, PA; Scranton-Wilkes-Barre, PA; Eastern South Dakota; Richmond, VA; and Milwaukee, WI.

DATES: Effective date: This regulation is effective on May 4, 2009. Applicability date: Agencies will place affected employees on their new wage schedule on the first day of the first applicable pay period beginning on or after June 3, 2009.

FOR FURTHER INFORMATION CONTACT: Madeline Gonzalez, (202) 606-2838; e-mail pay-performance-policy@opm.gov; or FAX: (202) 606-4264.

SUPPLEMENTARY INFORMATION: On January 14, 2009, the U.S. Office of Personnel Management (OPM) issued a proposed rule (74 FR 1948) to redefine the geographic boundaries of several appropriated fund Federal Wage System (FWS) wage areas. This proposed rule would redefine the following counties:

• Chilton County, AL, to the Birmingham, AL, area of application;

• Broomfield County, CO, to the Denver, CO, survey area;

• Clarke, Spotsylvania, and Warren Counties, VA; Fredericksburg City, VA; and Jefferson County, WV, to the Washington, DC, area of application;

• Jasper, Lamar, and Meriwether Counties, GA, to the Atlanta, GA, area of application;

• Kenosha County, WI, to the Chicago, IL, area of application;

• Brown County, IN, to the Indianapolis, IN, area of application;

• Union County, SD, to the Omaha, NE, area of application;

• Washington County, IN, to the Louisville, KY, area of application;

• Queen Anne's County, MD, to the Baltimore, MD, area of application;

• Moniteau County, MO, to the St. Louis, MO, area of application;

• Hunterdon County, NJ, and Pike County, PA, to the New York, NY, area of application; and

• Carbon County, PA, to the Philadelphia, PA, area of application.

The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

John Berry,
Director, U.S. Office of Personnel Management.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for Birmingham, AL; Denver, CO; Wilmington, DE; Washington, DC; Atlanta, GA; Columbus, GA; Macon, GA; Chicago, IL; Bloomington-Bedford-Washington, IN; Indianapolis, IN; Louisville, KY; Baltimore, MD; Hagerstown-Martinsburg-Chambersburg, MD; St. Louis, MO; Southern Missouri; Omaha, NE; New York, NY; Philadelphia, PA; Scranton-Wilkes-Barre, PA; Eastern South Dakota; Richmond, VA; and Milwaukee, WI, to read as follows:

Appendix C to Subpart B of Part 532—Appropriated Fund Wage and Survey Areas

* * * * *

ALABAMA
* * * * *
Birmingham
Survey Area
Alabama:
Jefferson
St. Clair
Shelby
Tuscaloosa
Walker
Area of Application. Survey area plus:
Alabama:
Bibb
Blount
Chilton
Cullman
Fayette
Greene
Hale
Lamar
Marengo
Perry
Pickens
* * * * *
COLORADO
Denver
Survey Area
Colorado:
Adams
Arapahoe
Boulder
Broomfield
Denver
Douglas
Gilpin
Jefferson
Area of Application. Survey area plus:
Colorado:
Clear Creek
Eagle
Elbert
Garfield
Grand
Jackson
Lake
Larimer
Logan
Morgan
Park
Phillips
Pitkin
Rio Blanco
Routt
Sedgwick
Summit
Washington
Weld
Yuma
* * * * *
DELAWARE
Wilmington
Survey Area
Delaware:
Kent
New Castle
Maryland:
Cecil
New Jersey:
Salem
Area of Application. Survey area plus:
Delaware:
Sussex
Maryland:
Caroline
Dorchester
Kent
Somerset
Talbot
Wicomico
Worcester (Does not include the Assateague Island portion.)
* * * * *
DISTRICT OF COLUMBIA
Washington, DC
Survey Area
District of Columbia:
Washington, DC
Maryland:
Charles
Frederick
Montgomery
Prince George's
Virginia (cities):
Alexandria
Fairfax
Falls Church
Manassas
Manassas Park
Virginia (counties):
Arlington
Fairfax
Loudoun
Prince William
Area of Application. Survey area plus:
Maryland:
Calvert
St. Mary's
Virginia (city):
Fredericksburg
Virginia (counties):
Clarke
Fauquier
King George
Spotsylvania
Stafford
Warren
West Virginia:
Jefferson
* * * * *
GEORGIA
* * * * *
Atlanta
Survey Area
Georgia:
Butts
Cherokee
Clayton
Cobb
De Kalb
Douglas
Fayette
Forsyth
Fulton
Gwinnett
Henry
Newton
Paulding
Rockdale
Walton
Area of Application. Survey area plus:
Georgia:
Banks
Barrow
Bartow
Carroll
Chattooga
Clarke
Coweta
Dawson
Fannin
Floyd
Franklin
Gilmer
Gordon
Greene
Habersham
Hall
Haralson
Heard
Jackson
Jasper
Lamar
Lumpkin
Madison
Meriwether
Morgan
Murray
Oconee
Oglethorpe
Pickens
Pike
Polk
Rabun
Spalding
Stephens
Towns
Union
White
Whitfield
* * * * *
Columbus
Survey Area
Georgia (counties):
Chattahoochee
Georgia (consolidated government):
Columbus
Alabama:
Autauga
Elmore
Lee
Macon
Montgomery
Russel
Area of Application. Survey area plus:
Georgia:
Harris
Marion
Quitman
Schley
Stewart
Talbot
Taylor
Webster
Alabama:
Bullock
Butler
Chambers
Coosa
Crenshaw
Dallas
Lowndes
Pike
Tallapoosa
Wilcox
Macon
Survey Area
Georgia:
Bibb
Houston
Jones
Laurens
Twiggs
Wilkinson
Area of Application. Survey area plus:
Georgia:
Baldwin
Bleckley
Crawford
Crisp
Dodge
Dooly
Hancock
Johnson
Macon
Monroe
Montgomery
Peach
Pulaski
Putnam
Telfair
Treutlen
Upson
Washington
Wheeler
Wilcox
* * * * *
ILLINOIS
* * * * *
Chicago
Survey Area
Illinois:
Cook
Du Page
Kane
Lake
McHenry
Will
Area of Application. Survey area plus:
Illinois:
Boone
De Kalb
Grundy
Iroquois
Kankakee
Kendall
La Salle
Lee
Livingston
Ogle
Stephenson
Winnebago
Indiana:
Benton
Jasper
Lake
La Porte
Newton
Porter
Pulaski
Starke
Wisconsin:
Kenosha
INDIANA
Bloomington-Bedford-Washington
Survey Area
Indiana:
Daviess
Greene
Knox
Lawrence
Martin
Monroe
Orange
Area of Application. Survey area plus:
Indiana:
Crawford
Dubois
Gibson
Jackson
Owen
Perry
Pike
Posey
Spencer
Vanderburgh
Warrick
Illinois:
Edwards
Gallatin
Hardin
Lawrence
Richland
Wabash
White
Kentucky:
Crittenden
Daviess
Hancock
Henderson
Livingston
McLean
Ohio
Union
Webster
* * * * *
Indianapolis
Survey Area
Indiana:
Boone
Hamilton
Hancock
Hendricks
Johnson
Marion
Morgan
Shelby
Area of Application. Survey area plus:
Indiana:
Bartholomew
Brown
Clay
Clinton
Decatur
Delaware
Fayette
Fountain
Henry
Madison
Montgomery
Parke
Putnam
Rush
Sullivan
Tippecanoe
Tipton
Vermillion
Vigo
Warren
* * * * *
KENTUCKY
* * * * *
Louisville
Survey Area
Kentucky:
Bullitt
Hardin
Jefferson
Oldham
Indiana:
Clark
Floyd
Jefferson
Area of Application. Survey area plus:
Kentucky:
Breckinridge
Grayson
Hart
Henry
Larue
Meade
Nelson
Shelby
Spencer
Trimble
Indiana:
Harrison
Jennings
Scott
Washington
* * * * *
MARYLAND
* * * *
Baltimore
Survey Area
Maryland:
Baltimore City
Anne Arundel
Baltimore
Carroll
Harford
Howard
Area of Application. Survey area plus:
Maryland:
Queen Anne's
Hagerstown-Martinsburg-Chambersburg
Survey Area
Maryland:
Washington
Pennsylvania:
Franklin
West Virginia:
Berkeley
Area of Application. Survey area plus:
Maryland:
Allegany
Garrett
Pennsylvania:
Fulton
Virginia (cities):
Harrisonburg
Winchester
Virginia (counties):
Culpeper
Frederick
Greene
Madison
Page
Rappahannock
Rockingham
Shenandoah
West Virginia:
Hampshire
Hardy
Mineral
Morgan
* * * * *
MISSOURI
* * * * *
St. Louis
Survey Area
Missouri:
St. Louis City
Franklin
Jefferson
St. Charles
St. Louis
Illinois:
Clinton
Madison
Monroe
St. Clair
Area of Application. Survey area plus:
Missouri:
Audrain
Boone
Callaway
Clark
Cole
Crawford
Gasconade
Knox
Lewis
Lincoln
Marion
Moniteau
Monroe
Montgomery
Osage
Pike
Ralls
Randolph
St. Francois
Ste. Genevieve
Scotland
Shelby
Warren
Washington
Illinois:
Alexander
Bond
Calhoun
Clay
Effingham
Fayette
Franklin
Greene
Hamilton
Jackson
Jefferson
Jersey
Johnson
Macoupin
Marion
Massac
Montgomery
Morgan
Perry
Pike
Pope
Pulaski
Randolph
Saline
Scott
Union
Washington
Wayne
Williamson
Southern Missouri
Survey Area
Missouri:
Christian
Greene
Laclede
Phelps
Pulaski
Webster
Area of Application. Survey area plus:
Missouri:
Barry
Barton
Benton
Bollinger
Butler
Camden
Cape Girardeau
Carter
Cedar
Dade
Dallas
Dent
Douglas
Hickory
Howell
Iron
Jasper
Lawrence
McDonald
Madison
Maries
Miller
Mississippi
Morgan
New Madrid
Newton
Oregon
Ozark
Perry
Polk
Reynolds
Ripley
St. Clair
Scott
Shannon
Stoddard
Stone
Taney
Texas
Vernon
Wayne
Wright
Kansas:
Cherokee
Crawford
* * * * *
NEBRASKA
Omaha
Survey Area
Nebraska:
Douglas
Lancaster
Sarpy
Iowa:
Pottawattamie
Area of Application. Survey area plus:
Nebraska:
Adams
Antelope
Arthur
Blaine
Boone
Boyd
Brown
Buffalo
Burt
Butler
Cass
Cedar
Chase
Cherry
Clay
Colfax
Cuming
Custer
Dakota
Dawson
Dixon
Dodge
Dundy
Fillmore
Franklin
Frontier
Furnas
Gage
Garfield
Gosper
Grant
Greeley
Hall
Hamilton
Harlan
Hayes
Hitchcock
Holt
Hooker
Howard
Jefferson
Johnson
Kearney
Keith
Keya Paha
Knox
Lincoln
Logan
Loup
McPherson
Madison
Merrick
Nance
Nemaha
Nuckolls
Otoe
Pawnee
Perkins
Phelps
Pierce
Platte
Polk
Red Willow
Richardson
Rock
Saline
Saunders
Seward
Sherman
Stanton
Thayer
Thomas
Thurston
Valley
Washington
Wayne
Webster
Wheeler
York
Iowa:
Adams
Audubon
Buena Vista
Cass
Cherokee
Clay
Crawford
Fremont
Harrison
Ida
Mills
Monona
Montgomery
O'Brien
Page
Palo Alto
Plymouth
Pocahontas
Sac
Shelby
Sioux
Taylor
Woodbury
South Dakota:
Union
* * * * *
NEW YORK
* * * * *
New York
Survey Area
New York:
Bronx
Kings
Nassau
New York
Queens
Suffolk
Westchester
New Jersey:
Bergen
Essex
Hudson
Middlesex
Morris
Passaic
Somerset
Union
Area of Application. Survey area plus:
New York:
Putnam
Richmond
Rockland
New Jersey:
Hunterdon
Monmouth
Ocean (Excluding the Fort Dix Military Reservation)
Sussex
Pennsylvania:
Pike
* * * * *
PENNSYLVANIA
* * * * *
Philadelphia
Survey Area
Pennsylvania:
Bucks
Chester
Delaware
Montgomery
Philadelphia
New Jersey:
Burlington
Camden
Gloucester
Area of Application. Survey area plus:
Pennsylvania:
Carbon
Lehigh
Northampton
New Jersey:
Atlantic
Cape May
Cumberland
Mercer
Ocean (Fort Dix Military Reservation only)
Warren
* * * * *
Scranton-Wilkes-Barre
Survey Area
Pennsylvania:
Lackawanna
Luzerne
Monroe
Area of Application. Survey area plus:
Pennsylvania:
Bradford
Columbia
Lycoming (Excluding Allenwood Federal Prison Camp)
Sullivan
Susquehanna
Wayne
Wyoming
* * * * *
SOUTH DAKOTA
Eastern South Dakota
Survey Area
South Dakota:
Minnehaha
Area of Application. Survey area plus:
South Dakota:
Aurora
Beadle
Bennett
Bon Homme
Brookings
Brown
Brule
Buffalo
Campbell
Charles Mix
Clark
Clay
Codington
Corson
Davison
Day
Deuel
Dewey
Douglas
Edmunds
Faulk
Grant
Gregory
Haakon
Hamlin
Hand
Hanson
Hughes
Hutchinson
Hyde
Jerauld
Jones
Kingsbury
Lake
Lincoln
Lyman
McCook
McPherson
Marshall
Mellette
Miner
Moody
Potter
Roberts
Sanborn
Spink
Stanley
Sully
Todd
Tripp
Turner
Walworth
Washabaugh
Yankton
Ziebach
Iowa:
Dickinson
Emmet
Lyon
Osceola
Minnesota:
Jackson
Lincoln
Lyon
Murray
Nobles
Pipestone
Rock
* * * * *
VIRGINIA
* * * * *
Richmond
Survey Area
Virginia (cities):
Colonial Heights
Hopewell
Petersburg
Richmond
Virginia (counties):
Charles City
Chesterfield
Dinwiddie
Goochland
Hanover
Henrico
New Kent
Powhatan
Prince George
Area of Application. Survey area plus:
Virginia (cities):
Charlottesville
Emporia
Virginia (counties):
Albemarle
Amelia
Brunswick
Buckingham
Caroline
Charlotte
Cumberland
Essex
Fluvanna
Greensville
King and Queen
King William
Lancaster
Louisa
Lunenberg
Mecklenburg
Middlesex
Northumberland
Nottoway
Orange
Prince Edward
Richmond
Sussex
Westmoreland
* * * * *
WISCONSIN
* * * * *
Milwaukee
Survey Area
Wisconsin:
Milwaukee
Ozaukee
Washington
Waukesha
Area of Application. Survey area plus:
Wisconsin:
Brown
Calumet
Door
Fond du Lac
Kewaunee
Manitowoc
Outagamie
Racine
Sheboygan
Walworth
Winnebago

[FR Doc. E9-10177 Filed 5-1-09; 8:45 am]

BILLING CODE 6325-39-P